DEPARTMENT OF COMMERCE

Census Bureau

[Docket Number 211029-0221]

Voting Rights Act Amendments of 2006, Determinations Under Section 203

AGENCY: Census Bureau, Department of Commerce.

ACTION: Notice of determination.

SUMMARY: As required by Section 203 of the Voting Rights Act of 1965 (Act), as amended, this notice publishes the U.S. Census Bureau's Director's determinations as to which political subdivisions are subject to the minority language assistance provisions of the Act. As of this date, those jurisdictions that are listed in this Notice as covered by Section 203 have a legal obligation to provide the minority language assistance prescribed by the Act.

DATES: This notice is applicable on December 8, 2021.

FOR FURTHER INFORMATION CONTACT: For information regarding this notice, please contact Mr. James Whitehorne, Chief, Census Redistricting and Voting Rights Data Office, Census Bureau, United States Department of Commerce, by telephone at 301-763-4039, by email at rdo@census.gov or james.whitehorne@census.gov, or visit the Redistricting & Voting Rights Data Office internet site at https://www.census.gov/rdo/.

For information regarding the applicable provisions of the Act, please contact T. Christian Herren, Jr., Chief, Voting Section, Civil Rights Division, United States Department of Justice, 4CON 8th Floor, 950 Pennsylvania Avenue NW, Washington, DC 20530, by telephone at (800) 253-3931 or visit the Voting Section internet site at https://www.justice.gov/crt/voting-section.

SUPPLEMENTARY INFORMATION: In July 2006, Congress amended the Voting Rights Act of 1965, now codified at title 52, United States Code (U.S.C.), 10301 et seq. (See Pub. L. 109-246, 120 Stat. 577 (2006)). Among other changes, the sunset date for minority language assistance provisions set forth in section 203 of the Act was extended to August 5, 2032.

Section 203 mandates that a state or political subdivision must provide language assistance to voters if more than five (5) percent of voting-age citizens are members of a single-language minority group and do not “speak or understand English adequately enough to participate in the electoral process,” and if the rate of those citizens who have not completed the fifth grade is higher than the national rate of voting-age citizens who have not completed the fifth grade. When a state is covered for a particular language minority group, an exception is made for any political subdivision in which less than five (5) percent of the voting-age citizens are members of the minority group and are limited in English proficiency, unless the political subdivision is covered independently. A political subdivision is also covered if more than 10,000 of the voting-age citizens are members of a single-language minority group, do not “speak or understand English adequately enough to participate in the electoral process,” and the rate of those citizens who have not completed the fifth grade is higher than the national rate of voting-age citizens who have not completed the fifth grade.

Finally, if more than five (5) percent of the American Indian or Alaska Native voting-age citizens residing within an American Indian Area, as defined for the purposes of the decennial census, are members of a single language minority group, do not “speak or understand English adequately enough to participate in the electoral process,” and the rate of those citizens who have not completed the fifth grade is higher than the national rate of voting-age citizens who have not completed the fifth grade, any political subdivision, such as a county, which contains all or any part of that American Indian Area, is covered by the minority language assistance provision set forth in Section 203. For the 2020 Census, American Indian areas and Alaska Native Regional Corporations were identified by the federally recognized tribal governments, Bureau of Indian Affairs, and state governments. The Census Bureau worked with American Indians and Alaska Natives to identify statistical areas, such as Oklahoma Tribal Statistical Areas (OTSA), Tribal Designated Statistical Areas (TDSA), State Designated Tribal Statistical Areas (SDTSA), and Alaska Native Village Statistical Areas (ANVSA).

Pursuant to Section 203, the Census Bureau Director has the responsibility to determine which states and political subdivisions are subject to the minority language assistance provisions of Section 203. The Section 203 determinations are generated using data from the American Community Survey, or comparable census data, as directed by the Act. To find more detailed information, please see the documentation on the 2021 tab of the Section 203 Language Determinations internet site at https://www.census.gov/programs-surveys/decennial-census/about/voting-rights/voting-rights-determination-file.html. The state and political subdivisions obligated to comply with the requirements are listed in this Notice.

Section 203 also provides that the “determinations of the Director of the Census under this subsection shall be effective upon publication in the Federal Register and shall not be subject to review in any court.” Therefore, as of this date, those jurisdictions that are listed as covered by Section 203 have a legal obligation to provide the minority language assistance prescribed in Section 203 of the Act. In the cases where a state is covered, those counties or county equivalents not displayed in the attachment are exempt from the obligation. Those jurisdictions subject to Section 203 of the Act previously, but not included on the list in this Notice, are no longer obligated to comply with Section 203.

Ron S. Jarmin, Acting Director, Census Bureau, approved the publication of this Notice in the Federal Register.

Dated: December 2, 2021.
Sheleen Dumas,
Department PRA Clearance Officer, Office of the Chief Information Officer, Commerce Department.

Covered Areas for Voting Rights Bilingual Election Materials—2020
State and political subdivision | Language minority group
Alaska: |
Aleutians East Borough | Yup'ik.
Aleutians West Census Area | Filipino.
Bethel Census Area | Yup'ik.
Bristol Bay Borough | Yup'ik.
Dillingham Census Area | Yup'ik.
Kenai Peninsula Borough | Yup'ik.
Kodiak Island Borough | Yup'ik.
Kodiak Island Borough | Filipino.
Kusilvak Census Area | Yup'ik.
Lake and Peninsula Borough | Aleut.
Lake and Peninsula Borough | Yup'ik.
Nome Census Area | Yup'ik.
North Slope Borough | Inupiat.
Northwest Arctic Borough | Inupiat.
Yukon-Koyukuk Census Area | Inupiat.
Arizona: |
Apache County | Navajo.
Apache County | Pueblo.
Coconino County | Hopi.
Coconino County | Navajo.
Coconino County | Paiute.
Gila County | Apache.
Graham County | Apache.
Maricopa County | Hispanic.
Mohave County | Paiute.
Navajo County | Hopi.
Navajo County | Navajo.
Pima County | Hispanic.
Pinal County | Apache.
Santa Cruz County | Hispanic.
Yuma County | Hispanic.
California: |
State Coverage | Hispanic.
Alameda County | Hispanic.
Alameda County | Chinese (including Taiwanese).
Alameda County | Filipino.
Alameda County | Vietnamese.
Colusa County | Hispanic.
Contra Costa County | Hispanic.
Contra Costa County | Chinese (including Taiwanese).
Fresno County | Hispanic.
Glenn County | Hispanic.
Imperial County | Hispanic.
Kern County | Hispanic.
Kings County | Hispanic.
Los Angeles County | Hispanic.
Los Angeles County | Cambodian.
Los Angeles County | Chinese (including Taiwanese).
Los Angeles County | Filipino.
Los Angeles County | Korean.
Los Angeles County | Vietnamese.
Madera County | Hispanic.
Merced County | Hispanic.
Monterey County | Hispanic.
Napa County | Hispanic.
Orange County | Hispanic.
Orange County | Chinese (including Taiwanese).
Orange County | Korean.
Orange County | Vietnamese.
Riverside County | Hispanic.
Sacramento County | Hispanic.
Sacramento County | Chinese (including Taiwanese).
Sacramento County | Vietnamese.
San Benito County | Hispanic.
San Bernardino County | Hispanic.
San Diego County | Hispanic.
San Diego County | Chinese (including Taiwanese).
San Diego County | Filipino.
San Diego County | Vietnamese.
San Francisco County | Hispanic.
San Francisco County | Chinese (including Taiwanese).
San Joaquin County | Hispanic.
San Mateo County | Hispanic.
San Mateo County | Chinese (including Taiwanese).
San Mateo County | Filipino.
Santa Barbara County | Hispanic.
Santa Clara County | Hispanic.
Santa Clara County | Chinese (including Taiwanese).
Santa Clara County | Filipino.
Santa Clara County | Vietnamese.
Sonoma County | Hispanic.
Stanislaus County | Hispanic.
Tulare County | Hispanic.
Ventura County | Hispanic.
Colorado: |
Adams County | Hispanic.
Alamosa County | Hispanic.
Conejos County | Hispanic.
Costilla County | Hispanic.
Denver County | Hispanic.
La Plata County | Ute.
Montezuma County | Ute.
Saguache County | Hispanic.
Connecticut: |
Bridgeport town | Hispanic.
East Hartford town | Hispanic.
Hartford town | Hispanic.
Meriden town | Hispanic.
New Britain town | Hispanic.
New Haven town | Hispanic.
New London town | Hispanic.
Norwalk town | Hispanic.
Waterbury town | Hispanic.
Windham town | Hispanic.
Florida: |
State Coverage | Hispanic.
Broward County | Hispanic.
Collier County | Hispanic.
DeSoto County | Hispanic.
Glades County | Seminole.
Hardee County | Hispanic.
Hendry County | Hispanic.
Hillsborough County | Hispanic.
Lee County | Hispanic.
Miami-Dade County | Hispanic.
Orange County | Hispanic.
Osceola County | Hispanic.
Palm Beach County | Hispanic.
Pinellas County | Hispanic.
Polk County | Hispanic.
Seminole County | Hispanic.
Georgia: |
Gwinnett County | Hispanic.
Hawaii: |
Honolulu County | Chinese (including Taiwanese).
Honolulu County | Filipino.
Maui County | Filipino.
Idaho: |
Clark County | Hispanic.
Clearwater County | All other American Indian tribes.
Idaho County | All other American Indian tribes.
Lewis County | All other American Indian tribes.
Nez Perce County | All other American Indian tribes.
Illinois: |
Cook County | Hispanic.
Cook County | Asian Indian (including Sikh).
Cook County | Chinese (including Taiwanese).
DuPage County | Hispanic.
Kane County | Hispanic.
Lake County | Hispanic.
Will County | Hispanic.
Kansas: |
Finney County | Hispanic.
Ford County | Hispanic.
Grant County | Hispanic.
Haskell County | Hispanic.
Seward County | Hispanic.
Stevens County | Hispanic.
Maryland: |
Montgomery County | Hispanic.
Prince George's County | Hispanic.
Massachusetts: |
Boston city | Hispanic.
Chelsea city | Hispanic.
Clinton town | Hispanic.
Everett city | Hispanic.
Fitchburg city | Hispanic.
Holyoke city | Hispanic.
Lawrence city | Hispanic.
Leominster city | Hispanic.
Lowell city | Hispanic.
Lowell city | Cambodian.
Lynn city | Hispanic.
Malden city | Chinese (including Taiwanese).
Methuen Town city | Hispanic.
Quincy city | Chinese (including Taiwanese).
Randolph Town city | Vietnamese.
Revere city | Hispanic.
Salem city | Hispanic.
Southbridge Town city | Hispanic.
Springfield city | Hispanic.
Worcester city | Hispanic.
Michigan: |
Clyde township | Hispanic.
Covert township | Hispanic.
Fennville city | Hispanic.
Hamtramck city | Bangladeshi.
Minnesota: |
Houston County | All other American Indian tribes.
Ramsey County | Hmong.
Mississippi: |
Attala County | Choctaw.
Carroll County | Choctaw.
Jackson County | Choctaw.
Jones County | Choctaw.
Kemper County | Choctaw.
Leake County | Choctaw.
Neshoba County | Choctaw.
Newton County | Choctaw.
Noxubee County | Choctaw.
Scott County | Choctaw.
Winston County | Choctaw.
Nebraska: |
Colfax County | Hispanic.
Dakota County | Hispanic.
Dawson County | Hispanic.
Nevada: |
Clark County | Hispanic.
Clark County | Filipino.
Nye County | Shoshone.
New Jersey: |
Bergen County | Hispanic.
Bergen County | Korean.
Camden County | Hispanic.
Cumberland County | Hispanic.
Essex County | Hispanic.
Hudson County | Hispanic.
Middlesex County | Hispanic.
Middlesex County | Asian Indian (including Sikh).
Passaic County | Hispanic.
Union County | Hispanic.
New Mexico: |
Bernalillo County | Hispanic.
Bernalillo County | Navajo.
Catron County | Pueblo.
Chaves County | Hispanic.
Cibola County | Navajo.
Cibola County | Pueblo.
Doña Ana County | Hispanic.
Guadalupe County | Hispanic.
Hidalgo County | Hispanic.
Lea County | Hispanic.
Luna County | Hispanic.
McKinley County | Navajo.
McKinley County | Pueblo.
Mora County | Hispanic.
Rio Arriba County | Navajo.
Sandoval County | Navajo.
San Juan County | Navajo.
San Juan County | Ute.
San Miguel County | Hispanic.
Socorro County | Hispanic.
Socorro County | Navajo.
Taos County | Hispanic.
New York: |
Bronx County | Hispanic.
Kings County | Hispanic.
Kings County | Chinese (including Taiwanese).
Monroe County | Hispanic.
Nassau County | Hispanic.
New York County | Hispanic.
New York County | Chinese (including Taiwanese).
Queens County | Hispanic.
Queens County | Asian Indian (including Sikh).
Queens County | Bangladeshi.
Queens County | Chinese (including Taiwanese).
Queens County | Korean.
Suffolk County | Hispanic.
Westchester County | Hispanic.
Ohio: |
Cuyahoga County | Hispanic.
Oklahoma: |
Texas County | Hispanic.
Pennsylvania: |
Berks County | Hispanic.
Lehigh County | Hispanic.
Philadelphia County | Hispanic.
Philadelphia County | Chinese (including Taiwanese).
Rhode Island: |
Central Falls city | Hispanic.
Pawtucket city | Hispanic.
Providence city | Hispanic.
Texas: |
State Coverage | Hispanic.
Andrews County | Hispanic.
Atascosa County | Hispanic.
Bailey County | Hispanic.
Bee County | Hispanic.
Bexar County | Hispanic.
Brewster County | Hispanic.
Brooks County | Hispanic.
Caldwell County | Hispanic.
Cameron County | Hispanic.
Castro County | Hispanic.
Cochran County | Hispanic.
Concho County | Hispanic.
Crane County | Hispanic.
Crockett County | Hispanic.
Crosby County | Hispanic.
Culberson County | Hispanic.
Dallam County | Hispanic.
Dallas County | Hispanic.
Dallas County | Vietnamese.
Dawson County | Hispanic.
Deaf Smith County | Hispanic.
Denton County | Hispanic.
Dimmit County | Hispanic.
Duval County | Hispanic.
Ector County | Hispanic.
Edwards County | Hispanic.
El Paso County | Hispanic.
Floyd County | Hispanic.
Fort Bend County | Hispanic.
Frio County | Hispanic.
Gaines County | Hispanic.
Garza County | Hispanic.
Gonzales County | Hispanic.
Hale County | Hispanic.
Hansford County | Hispanic.
Harris County | Hispanic.
Harris County | Chinese (including Taiwanese).
Harris County | Vietnamese.
Hidalgo County | Hispanic.
Hockley County | Hispanic.
Hudspeth County | Hispanic.
Jeff Davis County | Hispanic.
Jim Hogg County | Hispanic.
Jim Wells County | Hispanic.
Karnes County | Hispanic.
Kenedy County | Hispanic.
Kinney County | Hispanic.
Kleberg County | Hispanic.
Knox County | Hispanic.
Lamb County | Hispanic.
La Salle County | Hispanic.
Live Oak County | Hispanic.
Lynn County | Hispanic.
Martin County | Hispanic.
Maverick County | Hispanic.
Maverick County | All other American Indian tribes.
Medina County | Hispanic.
Menard County | Hispanic.
Moore County | Hispanic.
Nueces County | Hispanic.
Ochiltree County | Hispanic.
Parmer County | Hispanic.
Pecos County | Hispanic.
Polk County | All other American Indian tribes.
Presidio County | Hispanic.
Reagan County | Hispanic.
Reeves County | Hispanic.
San Patricio County | Hispanic.
Schleicher County | Hispanic.
Sherman County | Hispanic.
Starr County | Hispanic.
Sterling County | Hispanic.
Sutton County | Hispanic.
Tarrant County | Hispanic.
Tarrant County | Vietnamese.
Terrell County | Hispanic.
Terry County | Hispanic.
Titus County | Hispanic.
Travis County | Hispanic.
Uvalde County | Hispanic.
Val Verde County | Hispanic.
Ward County | Hispanic.
Webb County | Hispanic.
Willacy County | Hispanic.
Winkler County | Hispanic.
Yoakum County | Hispanic.
Zapata County | Hispanic.
Zavala County | Hispanic.
Utah: |
Salt Lake County | Hispanic.
San Juan County | Navajo.
San Juan County | Ute.
Virginia: |
Fairfax County | Hispanic.
Fairfax County | Vietnamese.
Prince William County | Hispanic.
Manassas city | Hispanic.
Manassas Park city | Hispanic.
Washington: |
Adams County | Hispanic.
Franklin County | Hispanic.
King County | Hispanic.
King County | Chinese (including Taiwanese).
King County | Vietnamese.
Yakima County | Hispanic.
Wisconsin: |
Abbotsford city | Hispanic.
Adams town | All other American Indian tribes.
Albion town | All other American Indian tribes.
Arcadia city | Hispanic.
Bangor town | All other American Indian tribes.
Birnamwood town | All other American Indian tribes.
Black River Falls city | All other American Indian tribes.
Brockway town | All other American Indian tribes.
Byron town | All other American Indian tribes.
Cranmoor town | All other American Indian tribes.
Curtiss village | Hispanic.
Dellona town | All other American Indian tribes.
Delton town | All other American Indian tribes.
Dewhurst town | All other American Indian tribes.
Eaton town | All other American Indian tribes.
Elderon town | All other American Indian tribes.
Ferryville village | All other American Indian tribes.
Franzen town | All other American Indian tribes.
Freeman town | All other American Indian tribes.
Friendship village | All other American Indian tribes.
Germania town | All other American Indian tribes.
Germantown town | All other American Indian tribes.
Greenfield town | All other American Indian tribes.
Holland town | All other American Indian tribes.
Komensky town | All other American Indian tribes.
La Grange town | All other American Indian tribes.
Lemonweir town | All other American Indian tribes.
Leon town | All other American Indian tribes.
Levis town | All other American Indian tribes.
Lyndon town | All other American Indian tribes.
Madison city | All other American Indian tribes.
Manchester town | All other American Indian tribes.
Mead town | All other American Indian tribes.
Millston town | All other American Indian tribes.
Milwaukee city | Hispanic.
Oakdale town | All other American Indian tribes.
Onalaska town | All other American Indian tribes.
Port Edwards town | All other American Indian tribes.
Preston town | All other American Indian tribes.
Reid town | All other American Indian tribes.
Seneca town | All other American Indian tribes.
Seven Mile Creek town | All other American Indian tribes.
Sharon village | Hispanic.
Stark town | All other American Indian tribes.
Sumpter town | All other American Indian tribes.
West Milwaukee village | Hispanic.
Whitestown town | All other American Indian tribes.
Wilson town | All other American Indian tribes.
Wittenberg village | All other American Indian tribes.
Wittenberg town | All other American Indian tribes.

[FR Doc. 2021-26547 Filed 12-7-21; 8:45 am]

BILLING CODE 3510-07-P